COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and services from the Procurement List previously furnished by such agencies.

DATES: Date added to and deleted from the Procurement List: May 31, 2020

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

On 8/16/2019, 9/6/2019, 3/20/2020 and 3/27/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

6515-01-NIB-0262—Gloves, Patient Examination and Treatment, Sand, Large, For CLS 6545-01-677-4906 Only

6510-01-NIB-2275—Bandage Kit, Elastic, For CLS 6545-01-677-4906 Only

6515-01-NIB-1877—Shield, Eye, Surgical with Garter Shield Cover, White, For CLS 6545-01-677-4906 Only

6510-01-NIB-2117—Bandage Gauze, For CLS 6545-01-677-4906 Only

Mandatory Source of Supply: Lighthouse Works, Orlando, FL

Contracting Activity: Defense Logistics Agency, DLA Troop Support

NSNs—Product Names:

9150-00-231-6689—Lubricating Oil, Utility, 1 Qt.

9150-00-281-2060—Lubricating Oil, Utility

9150-00-231-9045—Lubricating Oil, Utility, MMPV, 1 Gal.

9150-00-231-9062—Lubricating Oil, Utility, CN/5 Gal.

Mandatory Source of Supply: The Lighthouse for the Blind, St. Louis, MO

Contracting Activity: Defense Logistics Agency, DLA Aviation

NSN—Product Name:

MR 13116—Pan, Fry, Non-stick, Silicone Handle, 11 Inches

Mandatory Source of Supply: Winston-Salem Industries for the Blind, Inc., Winston-Salem, NC

Contracting Activity: Military Resale-Defense Commissary Agency

NSNs—Product Names:

4240-00-NIB-0237—Illuminating Grip Wrap, Roll, 1-1/2” x 5'

4240-00-NIB-0238—Illuminating Grip Wrap, Roll, 1-1/2” x 10'

4240-00-NIB-0239—Self-Contained Breathing Apparatus Identifier Tags

4240-00-NIB-0240—One-Sided Exit Sign, Silver with Photo Luminescent Letters and Silver Frame, Post Mount

4240-00-NIB-0241—Two-Sided Exit Sign, Silver with Photo Luminescent letters and Silver Frame, Post Mount

4240-00-NIB-0242—One-Sided Exit Sign, Silver with Photo Luminescent Letters and Silver Frame, Wall Mount Bracket

4240-00-NIB-0243—One-Sided Exit Sign with Photo Luminescent Letters, No Frame or Mount

4240-00-NIB-0244—Illuminating Multipurpose Adhesive Tape, Roll, 1-1/4” x 25'

4240-00-NIB-0245—Illuminating Multipurpose Adhesive Tape, Roll, 1-1/4” x 50'

4240-00-NIB-0246—Illuminating Multipurpose Adhesive Tape with Directional Arrows, Roll, 1-1/4” x 25'

4240-00-NIB-0247—Illuminating Multipurpose Adhesive Tape with Directional Arrows, Roll, 1-1/4” x 50'

4240-00-NIB-0248—Illuminating Helmet Band, 11-1/2” x 1-1/2”

4240-00-NIB-0269—Sign, “EXIT”, Clear Lucite with Mounting Bracket, Photoluminescent

4240-00-NIB-0270—Sign, “EXIT”, Mirrored Lucite with Mounting Bracket, Photoluminescent

4240-00-NIB-0271—Kit, Conversion, Mirrored Lucite “EXIT”, Double Sided, Photoluminescent

4240-00-NIB-0272—Label, “STANDPIPE”, Adhesive Back, Photoluminescent

4240-00-NIB-0273—Label, “EMERGENCY EXIT”, Adhesive Back, Photoluminescent

4240-00-NIB-0274—Sign, “RUNNING MAN” with Directional Arrow, Photoluminescent

4240-00-NIB-0275—Sign, “FIRE EXTINGUISHER”, Photoluminescent

4240-00-NIB-0276—Label, Custom, SBCA ID, Adhesive Back, Photoluminescent

4240-00-NIB-0282—Sign, “FLOOR 1”, Stairwell Identifier, Photoluminescent

4240-00-NIB-0283—Sign, “FLOOR 2”, Stairwell Identifier, Photoluminescent

4240-00-NIB-0284—Sign, “FLOOR 3”, Stairwell Identifier, Photoluminescent

4240-00-NIB-0285—Sign, “FLOOR 4”, Stairwell Identifier, Photoluminescent

4240-00-NIB-0286—Sign, “FLOOR 5”, Stairwell Identifier, Photoluminescent

4240-00-NIB-0287—Sign, “FLOOR 6”, Stairwell Identifier, Photoluminescent

4240-00-NIB-0288—Sign, “FLOOR 7”, Stairwell Identifier, Photoluminescent

4240-00-NIB-0289—Sign, “FLOOR 8”, Stairwell Identifier, Photoluminescent

4240-00-NIB-0290—Sign, “FLOOR 9”, Stairwell Identifier, Photoluminescent

4240-00-NIB-0291—Sign, “FLOOR 10”, Stairwell Identifier, Photoluminescent

4240-00-NIB-0292—Sign, Side Directional Arrow, Photoluminescent

4240-00-NIB-0293—Sign, Corner Directional Arrow, Photoluminescent

4240-00-NIB-0294—Sign, “NOT AN EXIT”, Photoluminescent

4240-00-NIB-0295—Sign, “EXIT LEFT”, Photoluminescent

4240-00-NIB-0296—Sign, “EXIT RIGHT”, Photoluminescent

4240-00-NIB-0297—Sign, “STAIRS”, Photoluminescent

4240-00-NIB-0298—Sign, Custom Printed, Photoluminescent

4240-00-NIB-0299—Sign, “DOOR REMAINED UNLOCKED”

4240-00-NIB-0300—Sign, “FIRE DOOR KEEP CLOSED”

4240-00-NIB-0301—Sign, “NO SMOKING”

4240-00-NIB-0302—Sign, Custom Eco Solvent Printed

4240-00-NIB-0303—Sign, “EXIT”, Photoluminescent

4240-00-NIB-0304—Sign, “TIME DELAYED DOOR”, Photoluminescent

4240-00-NIB-0305—Sign, “IN CASE OF FIRE”, Photoluminescent

4240-00-NIB-0306—Sign, Custom Printed, Photoluminescent

Mandatory Source of Supply: Cincinnati Association for the Blind, Cincinnati, OH

Contracting Activity: Defense Logistics Agency, DLA Troop Support

NSNs—Product Names:

NSNs 8405-01-683-3986 through 8405-01-683-4516, 111 sizes—Shirt, Army Green Service Uniform, Men's, L/S, Athletic Fit, Heritage Tan

NSNs 8405-01-683-2858 through 8405-01-683-3435, 135 sizes—Shirt, Army Green Service Uniform, Men's, L/S, Classic Fit, Heritage Tan

Mandatory Source of Supply: Goodwill Industries of South Florida, Inc., Miami, FL

Contracting Activity: Dept of the Army, W6QK ACC-APG Natick

Deletions

On 3/27/2020, the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN—Product Name:

7510-01-317-4219—Dispenser, Clip System, Paper, Desktop, Medium

Mandatory Source of Supply: San Antonio Lighthouse for the Blind, San Antonio, TX

Contracting Activity: GSA/FAS Admin Svcs Acquisition BR(2, New York, NY

NSNs—Product Names:

7360-01-J19-2026—Dining Packet

7360-01-J19-2030—Dining Packet

7360-01-J19-2062—Dining Packet

Mandatory Source of Supply: LC Industries, Inc., Durham, NC

Contracting Activity: DLA Troop Support, Philadelphia, PA

NSNs—Product Names:

8415-01-315-9765—Ruff, Cold Weather Parka, White Synthetic Fur and Woodland Camouflage, X-Small

8415-01-315-9766—Ruff, Cold Weather Parka, White Synthetic Fur and Woodland Camouflage, Small

8415-01-315-9767—Ruff, Cold Weather Parka, White Synthetic Fur and Woodland Camouflage, Medium

8415-01-315-9768—Ruff, Cold Weather Parka, White Synthetic Fur and Woodland Camouflage, Large

8415-01-315-9769—Ruff, Cold Weather Parka, White Synthetic Fur and Woodland Camouflage, X-Large

Mandatory Source of Supply: RLCB, Inc., Raleigh, NC

Contracting Activity: DLA Troop Support, Philadelphia, PA

NSNs—Product Names:

MR 10647—Saver, Herb, Includes Shipper 20647

MR 11088—Blanket, Pet, Large

MR 11302—Cooler, Styrofoam, Handled, 22 Qt.

Mandatory Source of Supply: Winston-Salem Industries for the Blind, Inc., Winston-Salem, NC

Contracting Activity: Military Resale-Defense Commissary Agency

NSN—Product Name:

8010-00-848-9272—Enamel, Aerosol, Ammunition and Metals, Flat Olive Drab

Mandatory Source of Supply: The Lighthouse for the Blind, St. Louis, MO

Contracting Activity: FAS Heartland Regional Administrato, Kansas City, MO

NSN—Product Name:

6230-01-641-0756—Flashlight, Tactical, Lithium-Ion Rechargeable, Multi-color LEDs

Mandatory Source of Supply: Central Association for the Blind & Visually Impaired, Utica, NY

Contracting Activity: DLA Troop Support, Philadelphia, PA

Services

Service Type: Maintenance Service Re-lamping

Mandatory for: Department of Interior—South: Office of Surface Mining, Washington, DC

Mandatory Source of Supply: ServiceSource, Inc., Oakton, VA

Contracting Activity: Office of Policy, Management, and Budget, NBC Acquisition Services Division

Michael R. Jurkowski,
Deputy Director, Business & PL Operations.

[FR Doc. 2020-09327 Filed 4-30-20; 8:45 am]

BILLING CODE 6353-01-P